DEPARTMENT OF STATE

[Public Notice: 7046]

Notice of Extension of Public Comment Period for the Proposed Keystone XL Pipeline Project; Draft Environmental Impact Statement and Notice of Additional Public Comment Meetings

AGENCY: Department of State.

ACTION: Notice—Extension of public comment period and additional public comment meetings.

SUMMARY: The Department of State (DOS) is extending the public comment period for the Keystone XL Pipeline Project Draft Environmental Impact Statement (DEIS) until Friday, July 2, 2010. On April 20, 2010, the DOS provided Federal Register notice (75 FR 20653) of the availability of the DEIS and notice of nineteen public comment meetings to be held during three weeks in May, 2010 along the proposed pipeline route in Oklahoma, Kansas, Nebraska, Texas and Montana. That Federal Register notice also provided additional information regarding the DEIS and requested the submission of all comments by May 31, 2010. On April 30, 2010, in response to requests from several organizations, the DOS extended the public comment period until Wednesday, June 16, 2010 (75 FR 22890). As noted, the DOS is now extending the public comment period for a second time until Friday, July 2, 2010.

At the request of various stakeholders, DOS will also hold two additional public comment meetings in Houston and Washington, DC. DOS representatives will be present to receive written comments from the public and a court reporter will be present at both locations to transcribe oral comments from the public.

Extended Deadline for Public Comment Period: Comments on the DEIS should be received or postmarked no later than Friday, July 2, 2010.

Dates and Locations for Additional Public Comment Meetings

Houston

June 18, 2010, 7-9 p.m.

Location: Channelview High School, Auditorium in New Campus, 1100 Sheldon Road, Channelview, TX, 77530.

Washington, DC

June 29, 2010, 12:30-2:30 p.m.

Location: U.S. Department of State, Marshall Conference Center, East Auditorium, 2201 C Street, NW., Washington, DC 20520.

Directions: Anyone wishing to attend the public comment meeting in Washington, DC must enter the State Department via the 21st street entrance between Virginia Avenue and C Street. Proceed through the security check point in front of the 21st Street, entrance, enter the building, and then enter the Marshall Conference Center directly to the left. Laws and regulations regarding entering a Federal building will be in effect.

Written Comments: You may submit written comments by the following methods:

• Electronically, using the online comment form, available on the Keystone XL Project Web site: http://www.keystonepipeline-xl.state.gov. This is the preferred method for commenting.

• By mail addressed to: Elizabeth Orlando, Keystone XL Project Manager, U.S. Department of State, OES/ENV Room 2657, Washington, DC 20520. Please note that DOS mail can be delayed due to security screening.

• Fax to: (202) 647-1052, attention Elizabeth Orlando.

FOR FURTHER INFORMATION CONTACT: For information on the proposed Project or the DEIS contact Elizabeth Orlando, OES/ENV Room 2657, U.S. Department of State, Washington, DC 20520, or by telephone (202) 647-4284, or by fax at (202) 647-1052. You may also visit the Project Web site: http://www.keystonepipeline-xl.state.gov.

Dated: June 9, 2010.
Stephen J. Gallogly,
Director, Office of International Energy and Commodity Policy, Bureau of Economic, Energy, and Business Affairs, U.S. Department of State.

[FR Doc. 2010-14377 Filed 6-14-10; 8:45 am]

BILLING CODE 4710-07-P